NUCLEAR REGULATORY COMMISSION

[NRC-2008-0497]

NRC Enforcement Policy Revision

AGENCY: Nuclear Regulatory Commission.

ACTION: NRC Enforcement Policy Revision; correction.

SUMMARY: On September 15, 2008, the Nuclear Regulatory Commission (NRC) published a “Notice of Availability of Draft and Request for Comments” (See 73 FR 53286) on its proposed revised Enforcement Policy (Enforcement Policy or Policy). Subsequent to the September 15th publication, errors were identified in section 6.3, Materials Operations and section 6.7, Health Physics, of the proposed revised Policy. The NRC has corrected sections 6.3 and 6.7 and is making publicly available the corrected document as described below. No other changes or corrections have been made to the proposed revised Enforcement Policy published on September 15, 2008.

DATES: Submit comments on or before November 14, 2008. Comments received after this date will be considered if it is practical to do so, but the Commission is able to assure consideration only for comments received on or before this date.

ADDRESSES: Comments will be made available to the public in their entirety; personal information, such as your name, address, telephone number, e-mail address, etc. will not be removed from your submission. You may submit comments by any one of the following methods:

Federal e-Rulemaking Portal: http://www.regulations.gov; search on docket ID: NRC-2008-0497.

Mail comments to: Michael T. Lesar, Chief, Rulemaking, Directives, and Editing Branch, Office of Administration, Mail Stop: T-6D59, U.S. Nuclear Regulatory Commission, Washington, DC 20555-0001.

Hand-deliver comments to: 11555 Rockville Pike, Rockville, MD 20852, between the hours of 7:45 a.m. and 4:15 p.m., Federal workdays.

You can access publicly available documents related to this notice using the following methods:

Federal e-Rulemaking Portal: Documents related to this notice, including public comments, are accessible at http://www.regulations.gov, by searching on docket ID: NRC-2008-0497.

NRC's Public Document Room (PDR): The public may examine and have copied for a fee, publicly available documents at the NRC's PDR, Public File Area O-1F21, One White Flint North, 11555 Rockville Pike, Rockville, Maryland.

NRC's Agencywide Document Access and Management System (ADAMS): The corrected draft Enforcement Policy is available electronically at the NRC's Electronic Reading Room at http://www.nrc.gov/reading-rm/adams.html under ADAMS Accession Number ML082800381. From this site, the public can gain entry into ADAMS, which provides text and image files of the NRC's public documents. In addition, the corrected draft Enforcement Policy will be available at http://www.nrc.gov/about-nrc/regulatory/enforcement/enforce-pol.html. If you do not have Internet access or if there are problems in accessing the documents located in ADAMS, contact the PDR Reference staff at 1-800-397-4209, 301-415-4737 or by e-mail to pdr.resource@nrc.gov.

FOR FURTHER INFORMATION CONTACT: Doug Starkey, Office of Enforcement, U.S. Nuclear Regulatory Commission, Washington, DC 20555; Doug.Starkey@nrc.gov, (301) 415-3456.

Procedural Requirements

Paperwork Reduction Act

This policy statement does not contain new or amended information collection requirements subject to the Paperwork Reduction Act of 1995 (44 U.S.C. 3501 et seq.) Existing requirements were approved by the Office of Management and Budget (OMB), approval number 3150-0136.

Public Protection Notification

The NRC may not conduct or sponsor, and a person is not required to respond to, a request for information or an information collection requirement unless the requesting document displays a currently valid OMB control number.

Small Business Regulatory Enforcement Fairness Act

The NRC may not conduct or sponsor, and a person is not required to respond to, a request for information or an information collection requirement unless the requesting document displays a currently valid OMB control number.

Dated at Rockville, MD, this 8th day of October 2008.
For the Nuclear Regulatory Commission.
Cynthia A. Carpenter,
Director, Office of Enforcement.

[FR Doc. E8-24627 Filed 10-15-08; 8:45 am]

BILLING CODE 7590-01-P